DEPARTMENT OF LABOR

Occupational Safety and Health Administration

[Docket No. OSHA-2013-0026]

Executive Order 13650 Improving Chemical Facility Safety and Security Webinar: Implementation Updates

AGENCY: Occupational Safety and Health Administration (OSHA), Labor

ACTION: Notice of listening session Webinar.

SUMMARY: The Department of Labor (DOL), in coordination with the Department of Homeland Security (DHS) and the Environmental Protection Agency (EPA), is announcing a Webinar to update stakeholders on action items since the June 6, 2014 release of “Executive Order [EO] 13650: Actions to Improving Chemical Facility Safety and Security—A Shared Commitment.”

DATES: The Webinar will take place on June 19th, from 1:00 to 2:30 p.m. EDT.

Registration to Participate: To register, please email your contact information (first name, last name, company, title) to eo.chemical@hq.dhs.gov. As time permits, questions will be taken on a first-come, first served basis—please let us know if you wish to participate. You will be provided a separate email with webinar connection and call-in instructions. There is no fee to register.

FOR FURTHER INFORMATION CONTACT: For general information on the EO, visit the Web site at: https://www.osha.gov/chemicalexecutiveorder/. For questions regarding the EO, please contact: eo.chemical@hq.dhs.gov.

SUPPLEMENTARY INFORMATION:

I. Background

On August 1, 2013, President Obama issued EO 13650 to improve chemical facility safety and security. The Working Group charged with implementing the EO is co-chaired by DHS, DOL, and EPA, and includes participation from the Departments of Justice, Agriculture, and Transportation, all of whom play a role in chemical facility safety measures. The Working Group gathered concerns, comments, feedback, suggestions, and best practices from stakeholders over the course of several Webinars and listening sessions which culminated in a Report to the President released in May 2014, as well as an Action Plan contained therein.

The Working Group has made significant progress on the implementation of the Action Plan since the release of the report by initiating community planning preparedness measures, increasing Federal coordination, improving data management techniques and technology, revising regulations, issuing guidance and advisory documents, and creating a best practices repository, among other initiatives.

II. Scope of Webinar

The purpose of this Webinar is to update stakeholders and the public on progress made on action items since the June 6, 2014 release of “Executive Order [EO] 13650: Actions to Improving Chemical Facility Safety and Security—A Shared Commitment”, and to raise awareness of the EO 13650 Working Group Web site, located at: www.osha.gov/chemicalexecutiveorder/.

We encourage participation from the broad range of stakeholders who have an interest in chemical facility safety and security to include, but not limited to, chemical producers, chemical storage companies, agricultural supply companies, State and local regulators, chemical critical infrastructure owners and operators, first responders, labor organizations representing affected workers, environmental and community groups, and consensus standards organizations.

III. Public Participation

This Webinar will accommodate over 600 participants. As time permits, participants will be able to ask questions on a first-come first-served basis. We will do our best to accommodate all persons who wish to ask questions during the session. We request that participants refrain from making statements, and use this time to ask questions. Should time run out, participants may submit questions or statements to: eo.chemical@hq.dhs.gov.

Authority and Signature

David Michaels, Ph.D., MPH, Assistant Secretary of Labor for Occupational Safety and Health, authorized the preparation of this notice.

Signed at Washington, DC, on June 15, 2015.
David Michaels,
Assistant Secretary of Labor for Occupational Safety and Health.

[FR Doc. 2015-15010 Filed 6-17-15; 8:45 am]

BILLING CODE 4510-26-P